DEPARTMENT OF COMMERCE

National Oceanic and Atmospheric Administration

RIN 0648-XA553

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Golden Crab AP in Fort Lauderdale, FL. See SUPPLEMENTARY INFORMATION.

DATES: The meeting will take place July 26, 2011. See SUPPLEMENTARY INFORMATION.

ADDRESSES: The meeting will be held at the Crowne Plaza Fort Lauderdale Airport/Cruise Port, 455 State Road 84, Fort Lauderdale, FL 33316; telephone: (954) 523-8080; fax: (954) 523-8909.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; e-mail: kim.iverson@safmc.net.

SUPPLEMENTARY INFORMATION: Members of the Golden Crab AP will meet from 8:30 a.m. until 4:30 p.m. on July 26, 2011.

Issues to be addressed at the meeting include an overview of actions and alternatives to Draft Amendment 6 and an overview of the data analysis. Draft Amendment 6 addresses the proposal for catch shares in the golden crab fishery. The AP will provide recommendations to the Council.

Special Accommodations

The meeting is physically accessible to people with disabilities. Requests for auxiliary aids should be directed to the Council office (see ADDRESSES) 3 days prior to the meeting.

Note: The times and sequence specified in this agenda are subject to change.

Dated: July 5, 2011.
Tracey L. Thompson,
Acting Director, Office of Sustainable Fisheries, National Marine Fisheries Service.

[FR Doc. 2011-17270 Filed 7-8-11; 8:45 am]

BILLING CODE 3510-22-P